COMMITTEE FOR PURCHASE FROM PEOPLE WHO ARE BLIND OR SEVERELY DISABLED

Procurement List: Additions and Deletions

AGENCY: Committee for Purchase From People Who Are Blind or Severely Disabled.

ACTION: Additions to and deletion from procurement list.

SUMMARY: This action adds services to the Procurement List to be furnished by nonprofit agencies employing persons who are blind or have other severe disabilities, and deletes a product from the Procurement List previously furnished by such agencies.

DATES: Effective Date: November 17, 2008.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On August 8, 2008, the Committee for Purchase From People Who Are Blind or Severely Disabled published notice (73 FR 46245) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Combined Facilities Maintenance, Armed Forces Reserve Center, 251 Rudy Chase Drive, Glenville, NY;

Naval & Marine Corps Reserve Center, 439 Paul Road, Rochester, NY;

Naval & Marine Corps Reserve Center, 3 Porter Avenue, Buffalo, NY;

Naval Reserve Center Syracuse, 5803 East Molloy Road, Mattydale, NY.

NPA: Human Technologies Corporation, Utica, NY.

Contracting Activity: Dept of the Navy, U.S. Fleet Forces Command.

Deletions

On September 5, 2008, the Committee for Purchase From People Who Are Blind or Severely Disabled published notice (73 FR 51787) of proposed deletion to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Label, Pressure-Sensitive Adhesive

NSN: 7530-00-054-1575—Label, Pressure-Sensitive Adhesive.

NPA: North Central Sight Services, Inc., Williamsport, PA.

Contracting Activity: GSA/FSS Ofc Sup Ctr—Paper Products, New York, NY.

Barry S. Lineback,
Acting Director, Program Operations.

[FR Doc. E8-24674 Filed 10-16-08; 8:45 am]

BILLING CODE 6353-01-P